DEPARTMENT OF COMMERCE

International Trade Administration

[A-533-843]

Certain Lined Paper Products From India: Notice of Correction to Final Results of Antidumping Duty Administrative Review; 2016-2017

AGENCY: Enforcement and Compliance, International Trade Administration, Department of Commerce.

SUMMARY: The Department of Commerce (Commerce) is correcting the final results of the administrative review of the antidumping duty order on certain lined paper products (CLPP) from India. The period of review (POR) is September 1, 2016, through August 31, 2017.

DATES: Applicable June 5, 2019.

FOR FURTHER INFORMATION CONTACT: Cindy Robinson and Joy Zhang, AD/CVD Operations, Office III, Enforcement and Compliance, International Trade Administration, U.S. Department of Commerce, 1401 Constitution Avenue NW, Washington, DC 20230; telephone (202) 482-3797 or (202) 482-1168, respectively.

SUPPLEMENTARY INFORMATION:

Background

On May 21, 2019, Commerce published in the Federal Register the Final Results of the 2016-2017 administrative review of the antidumping duty order on CLPP from India.¹ Commerce is correcting the Final Results to address the inadvertent omission of our final determination of no shipments with respect to two companies.

¹ See Certain Lined Paper Products from India: Final Results of Antidumping Duty Administrative Review; 2016-2017, 84 FR 23017 (May 21, 2019) (Final Results), and accompanying Issues and Decision Memorandum.

Scope of the Order

The merchandise covered by the order is certain lined paper products. For a complete description of the scope of this order, see the “Scope of the Order” section in the Issues and Decision Memorandum accompanying the Final Results.

Correction to Final Results—Final Determination of No Shipments

As noted in the Preliminary Results, we received timely no shipment claims from Lodha Offset Limited (Lodha) and Marisa International (Marisa).² On September 13, 2018, Commerce issued a no shipment inquiry to U.S. Customs and Border Protection (CBP) with respect to Lodha and Marisa and, on the same date, CBP confirmed Lodha and Marisa had no shipments of subject merchandise to the United States during the POR.³ In the Preliminary Results, we preliminarily determined that Lodha and Marisa had no shipments of subject merchandise to the United States during the POR. We received no comments from interested parties with respect to the companies' no shipment claims. Therefore, because the record indicates that these two companies did not export or sell subject merchandise to the United States during the POR, we continue to find that Lodha and Marisa had no shipments of subject merchandise to the United States during the POR.

² See Certain Lined Paper Products from India: Preliminary Results of Antidumping Duty Administrative Review and Preliminary Determination of No Shipments; 2016-2017, 83 FR 50886 (October 10, 2018) (Preliminary Results), and accompanying Preliminary Decision Memorandum at 7.

³ See Memorandum, “Certain Lined Paper Products from India,” dated September 27, 2018, documenting CBP's confirmation of no shipments finding from the named companies; see also Commerce's No Shipment Inquiry, “Re: No shipments inquiry for certain lined paper products from India produced and/or exported by various companies (A-533-843),” message number 8256305, dated September 13, 2018.

This correction to the Final Results is published in accordance with sections 751(a)(1) and 777(i) of the Tariff Act of 1930, as amended.

Dated: May 30, 2019.
Jeffrey I. Kessler,
Assistant Secretary for Enforcement and Compliance.

[FR Doc. 2019-11713 Filed 6-4-19; 8:45 am]

BILLING CODE 3510-DS-P